DEPARTMENT OF COMMERCE

International Trade Administration

[A-570-892]

Antidumping Duty Order: Carbazole Violet Pigment 23 From the People's Republic of China

AGENCY: Import Administration, International Trade Administration, Department of Commerce.

EFFECTIVE DATE: December 29, 2004.

FOR FURTHER INFORMATION CONTACT: Tisha Loeper-Viti or Marin Weaver at (202) 482-7425 and (202) 482-2336, respectively; AD/CVD Enforcement, China/NME Group, Office 8, Import Administration, Room 1870, International Trade Administration, U.S. Department of Commerce, 14th Street and Constitution Avenue, NW, Washington, DC 20230.

SUPPLEMENTARY INFORMATION:

Background

On November 17, 2004, the Department of Commerce (the Department) published its final determination in the antidumping duty investigation of carbazole violet pigment 23 (CVP-23) From the People's Republic of China (PRC). See Notice of Final Determination of Sales at Less Than Fair Value: Carbazole Violet Pigment 23 From the People's Republic of China, 69 FR 67304 (November 17, 2004) (Final Determination).

Scope of Order

The merchandise covered by this order is carbazole violet pigment 23 identified as Color Index No. 51319 and Chemical Abstract No. 6358-30-1, with the chemical name of diindolo [3,2-b:3′,2′-m]triphenodioxazine, 8,18-dichloro-5, 15-diethy-5,15-dihydro-, and molecular formula of C34H22Cl2N4O2.¹ The subject merchandise includes the crude pigment in any form (e.g., dry powder, paste, wet cake) and finished pigment in the form of presscake and dry color. Pigment dispersions in any form (e.g., pigments dispersed in oleoresins, flammable solvents, water) are not included within the scope of the order.

¹ Please note that the bracketed section of the product description, [3,2-b:3′,2′-m], is not business proprietary information. In this case, the brackets are simply part of the chemical nomenclature. See December 4, 2003, amendment to petition at 8.

The merchandise subject to this order is classifiable under subheading 3204.17.9040 of the Harmonized Tariff Schedule of the United States (HTSUS). Although the HTSUS subheadings are provided for convenience and customs purposes, the written description of the merchandise covered by this order is dispositive.

Antidumping Duty Order

On December 22, 2004, in accordance with section 735(d) of the Tariff Act of 1930, as amended, (the Act), the International Trade Commission (ITC) notified the Department of its final determination that the industry in the United States producing CVP-23 is materially injured within the meaning of section 735(b)(1)(A)(i) of the Act by reason of imports of the subject merchandise from the PRC.

In addition, the ITC notified the Department of its final determination that critical circumstances do not exist with respect to imports of subject merchandise from all producers and exporters. Therefore, we will instruct U.S. Customs and Border Protection (CBP) to lift suspension and to release any bond or other security, and refund any cash deposit made, to secure the payment of antidumping duties with respect to entries of the merchandise entered, or withdrawn from warehouse, for consumption prior to the date of publication of the preliminary determination in the Federal Register. See Notice of Preliminary Determination of Sales at Less Than Fair Value and Postponement of Final Determination: Carbazole Violet Pigment 23 From the People's Republic of China, 69 FR 35287 (June 24, 2004).

In accordance with section 736(a)(1) of the Act, the Department will direct CBP to assess, upon further advice by the Department, antidumping duties equal to the amount by which the normal value of the subject merchandise exceeds the export price or constructed export price of the subject merchandise for all relevant entries of CVP-23 from the PRC. The antidumping duties will be assessed on all (1) unliquidated entries of CVP-23 subject to this order, entered, or withdrawn from warehouse, for consumption on or after June 24, 2004, the date of publication of the Department's preliminary determination in the Federal Register, and before December 21, 2004; and (2) merchandise entered, or withdrawn from warehouse, for consumption on or after the date of publication of the ITC's notice of final determination in the Federal Register. The Department terminated the suspension of liquidation for entries of subject merchandise, pursuant to section 733(d) of the Act, on December 21, 2004. Entries of CVP-23 from the PRC made between December 21, 2004, and the day preceding the publication of the ITC's notice of final determination in the Federal Register are not liable for the assessment of antidumping duties.

On or after the date of publication of the ITC's notice of final determination in the Federal Register, the CBP will require, at the same time as importers would normally deposit estimated duties, a cash deposit equal to the estimated weighted-average antidumping duty margins as noted below. The “PRC-Wide Rate” applies to all exporters of subject merchandise not specifically listed. The weighted-average dumping margins are as follows:

Manufacturer/exporter ¹ | Weighted-average margin (percent)
GoldLink Industries Co., Ltd | 5.51
Nantong Haidi Chemical Co., Ltd | 44.50
Trust Chem Co., Ltd | 27.19
PRC-Wide Rate | 217.94
¹ Tianjin Hanchem International Trading Co. (Hanchem) was inadvertently identified separately as an exporter in the “Final Determination of Investigation” section of the Final Determination with a rate of 217.94%. Instead, Hanchem should have been included in the PRC entity and assigned the PRC-wide rate of 217.94%.

This notice constitutes the antidumping duty order with respect to CVP-23 from the PRC, pursuant to section 736(a) of the Act. Interested parties may contact the Department's Central Records Unit, Room B-099 of the Main Commerce Building, for copies of an updated list of antidumping duty orders currently in effect.

This order is issued and published in accordance with section 736(a) of the Act and 19 CFR 351.211.

Dated: December 22, 2004.
Holly A. Kuga,
Acting Assistant Secretary for Import Administration.

[FR Doc. 04-28520 Filed 12-28-04; 8:45 am]

BILLING CODE 3510-DS-P